DEPARTMENT OF TRANSPORTATION

Federal Aviation Administration

14 CFR Part 39

[Docket No. FAA-2015-7526; Directorate Identifier 2014-NM-217-AD; Amendment 39-18852; AD 2017-08-03]

RIN 2120-AA64

Airworthiness Directives; Airbus Airplanes

AGENCY: Federal Aviation Administration (FAA), Department of Transportation (DOT).

ACTION: Final rule.

SUMMARY: We are adopting a new airworthiness directive (AD) for all Airbus Model A318, A319, A320-211, -212, -214, -231, -232, and -233 airplanes, and A321 series airplanes. This AD was prompted by the discovery of corroded circlips in fuel vent protectors (FVP) having a certain part number. This AD requires an inspection to determine the part number and serial number of the FVP, and replacement if necessary; and application of sealant on certain nuts and bolts of the National Advisory Committee for Aeronautics (NACA) duct assembly. We are issuing this AD to address the unsafe condition on these products.

DATES: This AD is effective May 22, 2017.

The Director of the Federal Register approved the incorporation by reference of a certain publication listed in this AD as of May 22, 2017.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-7526.

Examining the AD Docket

You may examine the AD docket on the Internet at http://www.regulations.gov by searching for and locating Docket No. FAA-2015-7526; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a supplemental notice of proposed rulemaking (SNPRM) to amend 14 CFR part 39 by adding an AD that would apply to all Airbus Model A318, A319, A320-211, -212, -214, -231, -232, and -233 airplanes, and A321 series airplanes. The SNPRM published in the Federal Register on October 21, 2016 (81 FR 72748) (“the SNPRM”). We preceded the SNPRM with a notice of proposed rulemaking (NPRM) that published in the Federal Register on December 23, 2015 (80 FR 79742) (“the NPRM”). The NPRM proposed to require an inspection to determine the part number and serial number of the FVP, and replacement if necessary. The NPRM was prompted by the discovery of corroded circlips in FVPs having a certain part number. The SNPRM proposed to require an additional action for sealant application on some nuts and bolts on the NACA duct assembly, and to provide a grace period to the compliance time. We are issuing this AD to detect and correct corroded circlips. Such corrosion could lead to failure of the circlips and consequent movement of the FVP and result in a reduction of the flame protector capability of the FVP cartridge, which could result in damage to the airplane in case of lightning impact or fire on the ground.

The European Aviation Safety Agency (EASA), which is the Technical Agent for the Member States of the European Union, has issued AD 2016-0114, dated June 15, 2016; corrected June 23, 2016 (referred to after this as the Mandatory Continuing Airworthiness Information, or “the MCAI”), to correct an unsafe condition for all Airbus Model A318, A319, A320-211, -212, -214, -231, -232, and -233 airplanes, and A321 series airplanes. The MCAI states:

On each aeroplane wing, a NACA duct assembly is installed, including a Fuel Vent Protector (FVP) which is used as flame arrestor. This FVP is maintained in its NACA duct assembly by a circlip (also known as C-clip). Following a wing water pressure test, the FVP is removed and dried with heat. During an inspection after this test, several circlips were reported to be discoloured. Investigation revealed that a batch of circlips fitted on some FVP Part Number (P/N) 786073-1-0 have an increased risk of corrosion due to a manufacturing quality issue.

This condition, if not detected and corrected, could lead to circlip failure and consequent FVP movement, reducing the flame protector capability of the FVP cartridge, possibly resulting in damage to the aeroplane in case of lightning impact or fire on ground.

Airbus issued Service Bulletin (SB) A320-28-1221, providing instructions for identification by serial number (s/n) and removal from service of the affected FVP P/N 786073-1-0, and EASA issued AD 2014-0234, later revised, to require those actions and to implement installation requirements for the FVP.

After that [EASA] AD was issued, one step in the FVP re-installation instructions was identified as missing. Consequently, Airbus revised SB A320-28-1221 to provide instructions for sealant installation on some nuts and bolts on the NACA duct assembly.

For the reasons described above, this [EASA] AD retains the requirements of EASA AD 2014-0234R1, which is superseded, and requires additional work for aeroplanes already modified in accordance with Airbus SB A320-28-1221 original issue or Revision 01.

You may examine the MCAI in the AD docket on the Internet at http://www.regulations.gov by searching for and locating Docket No. FAA-2015-7526.

Comments

We gave the public the opportunity to participate in developing this AD. We received no comments on the SNPRM or on the determination of the cost to the public.

Conclusion

We reviewed the relevant data and determined that air safety and the public interest require adopting this AD as proposed except for minor editorial changes. We have determined that these minor changes:

• Are consistent with the intent that was proposed in the SNPRM for correcting the unsafe condition; and

• Do not add any additional burden upon the public than was already proposed in the SNPRM.

Related Service Information Under 1 CFR Part 51

Airbus has issued Service Bulletin A320-28-1221, Revision 02, dated January 11, 2016. The service information describes procedures for inspecting the FVP to determine the part number and serial number, replacing any affected FVP, and applying sealant to the nuts and bolts of the NACA duct assembly. This service information is reasonably available because the interested parties have access to it through their normal course of business or by the means identified in the ADDRESSES section.

Costs of Compliance

We estimate that this AD affects 7 airplanes of U.S. registry. We also estimate that it will take about 19 work-hours per product to comply with the new basic requirements of this AD. The average labor rate is $85 per work-hour. Required parts will cost about $25,640 per product. Based on these figures, we estimate the cost of this AD on U.S. operators to be $190,785, or $27,255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-08-03 Airbus: Amendment 39-18852; Docket No. FAA-2015-7526; Directorate Identifier 2014-NM-217-AD.

(a) Effective Date

This AD is effective May 22, 2017.

(b) Affected ADs

None.

(c) Applicability

This AD applies to the airplanes specified in paragraphs (c)(1), (c)(2), (c)(3), and (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 28, Fuel.

(e) Reason

This AD was prompted by the discovery of corroded circlips in fuel vent protectors (FVP) having a certain part number. We are issuing this AD to detect and correct corroded circlips. Such corrosion could lead to failure of the circlips and consequent movement of the FVP and result in a reduction of the flame protector capability of the FVP cartridge, which could result in damage to the airplane in case of lightning impact or fire on the ground.

(f) Compliance

Comply with this AD within the compliance times specified, unless already done.

(g) Inspection of FVP and Corrective Action

For airplanes having a manufacturer serial number specified in figure 1 to paragraphs (g) and (i) of this AD: At the time specified in paragraph (h) of this AD, do an inspection to determine the part number and serial number of the FVP. If the FVP has part number (P/N) 786073-1-0 with a serial number that is specified in figure 2 to paragraphs (g) and (i) of this AD, and the FVP is not marked “Amdt B,” replace the FVP with a serviceable part, at the time specified in paragraph (h) of this AD, in accordance with the Accomplishment Instructions of Airbus Service Bulletin A320-28-1221, Revision 02, dated January 11, 2016. A review of airplane maintenance records is acceptable in lieu of this inspection if the part number and serial number of the FVP can be conclusively determined from that review.

Figure 1 to Paragraphs (g) and (i) of This AD—Affected Airplane Manufacturer Serial Numbers
5438 | 5461 | 5485 through 5488 inclusive | 5536
5441 | 5463 | 5490 through 5493 inclusive | 5539
5444 | 5464 | 5495 through 5505 inclusive | 5541
5445 | 5469 | 5507 through 5515 inclusive | 5544
5447 | 5473 through 5478 inclusive | 5517 | 5547
5457 | 5481 | 5518 | 5551
5459 | 5482 | 5520 through 5527 inclusive | 5553
5460 | 5483 | 5530 | 5556

Figure 2 to Paragraphs (g) and (i) of This AD—Affected Serial Numbers for Part Number 786073-1-0
[Manufactured during August 2012]
Serial No. 786073IN0xxxx (xxxx indicates the last four digits)
3752 | 3821 | 3868 | 3911 | 3966 | 4010
3753 | 3826 | 3871 | 3914 | 3967 | 4011
3754 | 3827 | 3874 | 3922 | 3969 | 4013
3755 | 3829 | 3877 | 3925 | 3971 | 4017
3756 | 3830 | 3878 | 3927 | 3972 | 4019
3757 | 3833 | 3882 | 3930 | 3977 | 4023
3758 | 3834 | 3893 | 3937 | 3978 | 4024
3759 | 3836 | 3897 | 3938 | 3980 | 4025
3760 | 3839 | 3898 | 3940 | 3981 | 4026
3761 | 3840 | 3899 | 3945 | 3982 | 4039
3787 | 3848 | 3900 | 3946 | 3983 | 4048
3788 | 3849 | 3901 | 3947 | 3984 | 4065
3810 | 3850 | 3904 | 3948 | 3985 | 4066
3812 | 3851 | 3905 | 3951 | 3986 | 4068
3814 | 3853 | 3906 | 3961 | 3987 | 4070
3817 | 3859 | 3907 | 3962 | 3996 | 4184
3819 | 3860 | 3908 | 3964 | 3997 | 4187
3820 | 3867 | 3910 | 3965 | 4009 | None

(h) Compliance Times for the Requirements of Paragraph (g) of This AD

Do the actions required by paragraph (g) of this AD at the earliest of the times specified in paragraphs (h)(1), (h)(2), and (h)(3) of this AD, or within 30 days after the effective date of this AD, whichever occurs later.

(1) Before the accumulation of 5,000 total flight cycles after the date of manufacture of the airplane.

(2) Before the accumulation of 7,500 total flight hours after the date of manufacture of the airplane.

(3) Within 30 months after the date of manufacture of the airplane.

(i) Exclusion From Actions Required by Paragraph (g) of This AD

An airplane that does not have a manufacturer serial number specified in figure 1 to paragraphs (g) and (i) of this AD is excluded from the requirements of paragraph (g) of this AD, provided that a FVP having P/N 786073-1-0 with a serial number specified in figure 2 to paragraphs (g) and (i) of this AD has not been installed on that airplane after July 2012. If a FVP having P/N 786073-1-0 with a serial number specified in figure 2 to paragraphs (g) and (i) of this AD is installed, or the serial number cannot be identified: Within 12 months after the effective date of this AD, replace the FVP with a serviceable part, in accordance with the Accomplishment Instructions of Airbus Service Bulletin A320-28-1221, Revision 02, dated January 11, 2016. A review of airplane maintenance records is acceptable if it can be conclusively determined from that review that a FVP having a serial number specified in figure 2 to paragraphs (g) and (i) of this AD has not been installed on that airplane after July 2012.

(j) Parts Installation Limitation

As of the effective date of this AD, a FVP having P/N 786073-1-0 and a serial number listed in figure 2 to paragraphs (g) and (i) of this AD may be installed on any airplane, provided the FVP is marked with “Amdt B.”

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

Refer to Mandatory Continuing Airworthiness Information (MCAI) EASA Airworthiness Directive 2016-0114, dated June 15, 2016; corrected June 23, 2016; for related information. This MCAI may be found in the AD docket on the Internet at http://www.regulations.gov by searching for and locating Docket No. FAA-2015-7526.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-28-1221, Revision 02, dated January 11, 2016.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 31, 2017.
Michael Kaszycki,
Acting Manager, Transport Airplane Directorate, Aircraft Certification Service.

[FR Doc. 2017-07076 Filed 4-14-17; 8:45 am]

BILLING CODE 4910-13-P